FEDERAL COMMUNICATIONS COMMISSION

Notice of Public Information Collection(s) Being Reviewed by the Federal Communications Commission

November 17, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 26, 2003. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., Washington DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0798.

Title: FCC Application for Wireless Telecommunications Bureau Radio Service Authorization.

Form No: FCC Form 601.

Type of Review: Revision of a currently approved collection.

Respondents: Individuals or households, business or other for-profit, not-for-profit institutions, and state, local or tribal government.

Number of Respondents: 250,520.

Estimated Time Per Response: .50-1.25 hours.

Frequency of Response: On occasion and every 10 year reporting requirements, recordkeeping requirement, and third party disclosure requirement.

Total Annual Burden: 219,205 hours.

Total Annual Cost: $50,104,000.

Needs and Uses: FCC Form 601 is a multi-purpose form used to apply for an authorization to operate radio stations, amend pending applications, modify existing licenses and perform a variety of other miscellaneous tasks in the Pubic Mobile Services, Personal Communications Services, General Wireless Communications Services, Private Land Mobile Radio Services, Broadcast Auxiliary Services, Fixed Microwave Services, Maritime Services (excluding ships) and Aviation Services (excluding aircraft). The form has been revised to include the Instructional Television Fixed Service (ITFS) and the Multipoint Distribution Service (MDS) previously held in the Broadband Licensing System (BLS) as these services will be integrated into the Universal Licensing System (ULS).

OMB Control No.: 3060-0816.

Title: Local Competition and Broadband Reporting, CC Docket No. 99-301.

Form No: FCC Form 477.

Type of Review: Extension of a currently approved collection.

Respondents: Business or other for-profit.

Number of Respondents: 429 respondents; 858 responses.

Estimated Time Per Response: 11.4 hours.

Frequency of Response: Semi-annual reporting requirement.

Total Annual Burden: 45,278 hours.

Total Annual Cost: N/A.

Needs and Uses: The FCC Form 477 seeks to gather information on the development of local competition and deployment of broadband service also known as advanced telecommunications services. The data are necessary to evaluate the status of developing competition in local exchange telecommunications markets and to evaluate the status of broadband deployment. The information is used by Commission staff to advise the Commission about the efficacy of Commission rules and policies adopted to implement the Telecommunications Act of 1996.

OMB Control No.: 3060-0972.

Title: Multi-Association Group (MAG) Plan for Regulation of Interstate Services of Non-Price Cap Incumbent Local Exchange Carriers and Interexchange Carriers.

Form Nos: FCC Forms 507, 508, and 509.

Type of Review: Revision of a currently approved collection.

Respondents: Business or other for-profit, and not-for-profit institutions.

Number of Respondents: 1,249 respondents; 7,594 responses.

Estimated Time Per Response: 1-93 hours.

Frequency of Response: Annual reporting requirement and third party disclosure requirement.

Total Annual Burden: 31,923 hours.

Total Annual Cost: $45,000.

Needs and Uses: The Commission modified this collection by adding additional reporting requirements and eliminated reporting requirements that have been met or are no longer necessary. Specifically, the Commission aligned the interstate access rate structure more closely with the manner in which cost are incurred, and created a universal service support mechanism to replace implicit support in interstate access charges with explicit support that is portable to all eligible telecommunications carriers. The Commission also tailored to the needs of small and mid-sized local telephone companies serving rural and high-cost areas, and will help provide certainty and stability for rate-of-return carriers, encourage investment in rural America, and provide important consumer benefits.

Federal Communications Commission.
Marlene H. Dortch,
Secretary.

[FR Doc. 03-29348 Filed 11-24-03; 8:45 am]

BILLING CODE 6712-01-P